DEPARTMENT OF THE INTERIOR

Bureau of Land Management

Coteau Coal Lease Application

AGENCY: Bureau of Land Management, Interior.

ACTION: Notice of intent to prepare an environmental impact statement for coal lease application and notice of scoping.

SUMMARY: The Coteau Properties Company applied for a lease of Federal coal reserves at the Freedom Mine, Mercer County, North Dakota. The Bureau of Land Management (BLM) will analyze the proposed action in accordance with the National Environmental Policy Act (NEPA). At least two alternatives will be considered: (a) A no-action alternative in which federal coal reserves would not be available for lease, and (b) an alternative in which all or portions of the federal coal reserves would be made available for lease.

After an initial review, BLM has determined that an environmental impact statement (EIS) will be prepared to disclose effects that may result from strip mining. A public scoping period will be held to allow interested parties to submit comments or information relevant to preparation of the EIS.

DATES: Publication of this notice will initiate the public scoping comment process, which will end after 30 days. Comments on issues may be submitted in writing to BLM at the address listed below.

Public Participation: A goal of public involvement is to identify issues pertinent to the proposal. The BLM invites written comments and suggestions on this action, particularly in terms of issues and development of alternatives. People may visit with BLM officials at any time during the analysis.

ADDRESSES: Please send comments, concerns or questions to Field Office Manager, North Dakota Field Office, Bureau of Land Management, 2933 3rd Avenue West, Dickinson, ND 58601. For further information and/or to have your name added to our mailing list, please write to the address above, or contact Lee Jefferis (701-227-7713), or Mary Ramsey (701-227-7706) by telephone.

SUPPLEMENTARY INFORMATION: On January 18, 2002, The Coteau Properties Company filed an application with BLM to lease 5, 571 acres of Federal coal at the following locations:

T. 144 N., R. 88 W., 5th P.M.

Sec. 2: Lots 3, 4, S½NW¼

Sec. 4: Lots 1, 2, S½NE¼, S½

Sec. 6: All

Sec. 8: N½NE¼, SE¼NE¼, NW¼, N½SW¼

T. 144 N., R 89 W., 5th P.M.

Sec. 12: E½

T. 145 N., R. 88 W., 5th P.M.

Sec. 4: Lots 1, 2, 3, 4, S½N½, SE¼, S½SW¼

Sec. 10: N½

Sec. 14: All

Sec. 22: All

Sec. 26: N½NE¼, SW¼NE¼, NW¼SE¼,W½

Sec. 28: E½NE¼, SW¼NE¼, SE¼NW¼, S½

Sec. 34: N½N½, SE¼NE¼, E½SE¼, SW¼SE¼, SW¼.

The tracts include an estimated 90 million tons of recoverable coal.

The Office of Surface Mining Reclamation and Enforcement (OSM) will be a cooperating agency in the preparation of the EIS. If Federal lands are leased, they must be incorporated into the existing mine plan before Federal coal reserves can be mined. OSM is responsible for recommending approval, approval with conditions, or disapproval of the revised mine plan to the Secretary of the Interior.

The primary issue raised during our initial review of the application involves American Indian Traditional/Cultural features. Mining will result in impacts to cultural resources. Based on cultural resource inventories, 200 archeological sites with 1,700 stone features have been identified. Forty of these sites have been determined eligible for listing in the National Register of Historic Places. Native American tribes have voiced concerns about the cumulative effects of mining on these cultural resources.

Comments, including names and street addresses of respondents, will be available for public inspection at the BLM North Dakota Field Office. Individual respondents may request confidentiality. If you wish to withhold your name or address from public review or from disclosure under the Freedom of Information Act, you must state this at the beginning of your written comment. All submissions from organizations or businesses, and from individuals identifying themselves as representatives or officials of organizations or businesses, will be made available for public inspection in their entirety.

Dated: February 28, 2003.
Douglas Burger,
Field Manager.

[FR Doc. 03-5251 Filed 3-5-03; 8:45 am]

BILLING CODE 4310-$$-P